FEDERAL COMMUNICATIONS COMMISSION

47 CFR Part 73

[MB Docket No. 22-347; RM-11932; DA 22-1009; FR ID-106914]

Television Broadcasting Services Lincoln, Nebraska

AGENCY: Federal Communications Commission.

ACTION: Proposed rule.

SUMMARY: The Commission has before it a petition for rulemaking filed by The University of Nebraska (Petitioner), the licensee of noncommercial educational television station KUON-TV, channel *12, Lincoln, Nebraska. The Petitioner requests the substitution of channel *27 for channel *12 at Lincoln in the Table of TV Allotments.

DATES: Comments must be filed on or before November 7, 2022 and reply comments on or before November 21, 2022.

ADDRESSES: Federal Communications Commission, Office of the Secretary, 45 L Street NE, Washington, DC 20554. In addition to filing comments with the FCC, interested parties should serve counsel for the Petitioner as follows: Derek Teslik, Esq., Gray Miller Persh, 2233 Wisconsin Avenue NW, Washington, DC 20007.

FOR FURTHER INFORMATION CONTACT: Joyce Bernstein, Media Bureau, at (202) 418-1647; or Joyce Bernstein, Media Bureau, at Joyce.Bernstein@fcc.gov.

SUPPLEMENTARY INFORMATION: In support, the Petitioner states that the proposed channel substitution would serve the public interest, since moving the Station to a UHF channel would improve indoor reception. In support of its assertion that viewers in Lincoln have experienced difficulty receiving a signal on channel *12, the Petitioner submits a log of approximately 80 viewer complaints and requests for help receiving the signal. According to the Petitioner, although the proposed channel *27 facilities will result in a reduction in the Station's predicted population served within its noise limited service contour, almost all of the predicted loss area is served by other PBS stations licensed to communities in Nebraska and Iowa, which largely air the same programming as KUON-TV. The Petitioner further states that once terrain-limitations are factored into the analysis, the new loss area that would be created by the proposed channel substitution would contain only 342 persons, which it asserts is below the level the Commission considers de minimis in the context of determining whether there would be an impermissible loss of service.

This is a synopsis of the Commission's Notice of Proposed Rulemaking, MB Docket No. 22-347; RM-11932; DA 22-1009, adopted September 26, 2022, and released September 26, 2022. The full text of this document is available for download at https://www.fcc.gov/edocs. To request materials in accessible formats (braille, large print, computer diskettes, or audio recordings), please send an email to FCC504@fcc.gov or call the Consumer & Government Affairs Bureau at (202) 418-0530 (VOICE), (202) 418-0432 (TTY).

This document does not contain information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4). Provisions of the Regulatory Flexibility Act of 1980, 5 U.S.C. 601-612, do not apply to this proceeding.

Members of the public should note that all ex parte contacts are prohibited from the time a Notice of Proposed Rulemaking is issued to the time the matter is no longer subject to Commission consideration or court review, see 47 CFR 1.1208. There are, however, exceptions to this prohibition, which can be found in Section 1.1204(a) of the Commission's rules, 47 CFR 1.1204(a).

See Sections 1.415 and 1.420 of the Commission's rules for information regarding the proper filing procedures for comments, 47 CFR 1.415 and 1.420.

List of Subjects in 47 CFR Part 73

Television.

Federal Communications Commission.
Thomas Horan,
Chief of Staff, Media Bureau.

Proposed Rule

For the reasons discussed in the preamble, the Federal Communications Commission proposes to amend 47 CFR part 73 as follows:

PART 73—RADIO BROADCAST SERVICE

1. The authority citation for part 73 continues to read as follows:

Authority: 47 U.S.C. 154, 155, 301, 303, 307, 309, 310, 334, 336, 339.

§ 73.622 [Amended]

2. In § 73.622 in paragraph (j), amend the Table of Allotments under Nebraska by revising the entry for Lincoln to read as follows:

§ 73.622 Table of allotments.

* * * * *

(j) * * *

Community | Channel No.
* * * * *
NEBRASKA
* * * * *
Lincoln | 8, 10, 15, *27.
* * * * *

[FR Doc. 2022-21888 Filed 10-6-22; 8:45 am]

BILLING CODE 6712-01-P